NUCLEAR REGULATORY COMMISSION

[NRC-2016-0006]

Operator Licensing Examination Standards for Power Reactors

AGENCY: Nuclear Regulatory Commission.

ACTION: Draft NUREG; additional changes and reopen comment period.

SUMMARY: On February 5, 2016, the U.S. Nuclear Regulatory Commission (NRC) published draft NUREG-1021, Revision 11, “Operator Licensing Examination Standards for Power Reactors” for public comment. The public comment period was originally scheduled to close on March 21, 2016. On March 3, 2016, the comment period was extended to April 5, 2016. On March 18, 2016, the NRC posted three updated sections of Examination Standards (ES) in NUREG-1021 that reflect three additional changes that the NRC proposes to incorporate into Revision 11. The public comment period closed on April 5, 2016. The NRC has decided to reopen the public comment period to allow more time for members of the public to develop and submit comments on Revision 11.

DATES: The extended public comment period that ended on April 5, 2016 has been reopened for comments requested in the document published on March 3, 2016 (81 FR 11302), including comments on the additional sections of NUREG-1021 posted on March 18, 2016. Comments should be filed no later than May 6, 2016. Comments received after this date will be considered if it is practical to do so, but the NRC staff is able to ensure consideration only for comments received on or before this date.

ADDRESSES: You may submit comments by any of the following methods (unless this document describes a different method for submitting comments on a specific subject):

• Federal Rulemaking Web site: Go to http://www.regulations.gov and search for Docket ID NRC-2016-0006. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Maurin Scheetz, telephone: 301-415-2758; email: Maurin.Scheetz@nrc.gov; or Timothy Kolb, telephone: 301-415-0783; email: Timothy.Kolb@nrc.gov. Both are staff of the Office of Nuclear Reactor Regulation, U.S. Nuclear Regulatory Commission, Washington, DC 20555-0001.

SUPPLEMENTARY INFORMATION:

I. Obtaining Information and Submitting Comments

A. Obtaining Information

Please refer to Docket ID NRC-2016-0006 when contacting the NRC about the availability of information for this action. You may obtain publicly-available information related to this action by any of the following methods:

• Federal Rulemaking Web site: Go to http://www.regulations.gov and search for Docket ID NRC-2016-0006.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft NUREG is available in ADAMS under Accession No. ML16028A409. The updated sections are available in ADAMS under Accession Nos. ML16077A223, ML16077A225, and ML16077A227 for ES-205, ES-501, and ES-502, respectively.

• NRC's PDR: You may examine and purchase copies of public documents at the NRC's PDR, O1-F21, One White Flint North, 11555 Rockville Pike, Rockville, Maryland 20852.

B. Submitting Comments

Please include Docket ID NRC-2016-0006 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On February 5, 2016 (81 FR 6301), the NRC published draft NUREG-1021, Revision 11, “Operator Licensing Examination Standards for Power Reactors” for public comment. The comment period was extended on March 3, 2016 (81 FR 11302). The extended public comment period closed on April 5, 2016. The NRC has decided to reopen the public comment period until May 6, 2016 because three additional changes are proposed for incorporation into the NUREG: (1) Reducing the number of times per year the NRC offers the Generic Fundamentals Examination; (2) eliminating the informal review process; and (3) extending the post-exam comment period. These changes are reflected in updated sections ES-205, Procedures for Administering the Generic Fundamentals Examination Program; ES-501, Initial Post Examination Activities; and ES-502, Denials of Applications. These sections are available for review in the supporting documents section of Docket ID NRC-2016-0006. Specifically, starting in 2017, the NRC proposes to reduce the number of times per year that it offers the Generic Fundamentals Examination from four times per year to two times per year. The NRC proposes to discontinue the informal review process, the practice of performing informal staff reviews of proposed license denials at the request of an applicant. Applicants whose license applications are denied will retain hearing rights under Title 10 of the Code of Federal Regulations 2.103(b)(2). Finally, the NRC proposes to extend the post exam comment period to allow the NRC and the facility licensee sufficient time to consider all post exam comments for both the written examination and the operating test. These changes are currently before the Commission for vote as part of the Project AIM re-baselining effort (SECY-16-0009) (ADAMS Accession No. ML16028A189). The NRC presented these changes to the nuclear industry at the Nuclear Energy Institute's National Operator Licensing Workshop on February 9, 2016 and during a panel session at the NRC's Regulatory Information Conference on March 9, 2016. Furthermore, a public meeting was held on March 31, 2016 in Rockville, Maryland, to discuss the scope of these additional changes.

Dated at Rockville, Maryland, this 31 day of March, 2016.
For the Nuclear Regulatory Commission.
Maurin Scheetz,
Acting Chief, Operator Licensing and Training Branch, Division of Inspection and Regional Support, Office of Nuclear Reactor Regulation.

[FR Doc. 2016-07907 Filed 4-5-16; 8:45 am]

BILLING CODE 7590-01-P